DEPARTMENT OF HEALTH AND HUMAN SERVICES

Substance Abuse and Mental Health Services Administration

Agency Information Collection Activities: Proposed Collection; Comment Request

In compliance with Section 3506(c)(2)(A) of the Paperwork Reduction Act of 1995 concerning opportunity for public comment on proposed collections of information, the Substance Abuse and Mental Health Services Administration (SAMHSA) will publish periodic summaries of proposed projects. To request more information on the proposed projects or to obtain a copy of the information collection plans, call the SAMHSA Reports Clearance Officer on (240) 276-0361.

Comments are invited on: (a) Whether the proposed collections of information are necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology.

Proposed Project: Rural Emergency Medical Services Training Monitoring

SAMHSA will monitor program performance of its Rural Emergency Medical Services Training (EMS Training) grant program. The EMS Training grantees will recruit and train EMS personnel in rural areas with a particular focus on addressing mental and substance use disorders. To accomplish this, the EMS Training grantees conduct courses that qualify graduates to serve in an EMS agency, train EMS personnel as appropriate to maintain licenses and certifications and ensure EMS personnel are trained on mental and substance use disorders and care for people with such disorders in emergency situations relevant to serve in an EMS agency.

The EMS Training grantees hold a variety of trainings. A training event is defined as a Rural EMS Training sponsored or co-sponsored event that focuses on teaching of a skill, knowledge, or experience for personal or professional development. Higher education classes must be included in this definition. Each course is considered as one training event. SAMHSA intends to use one (1) instrument for program monitoring of REMS Training grantees activities as well as ongoing quality improvement, which is described below.

1. Rural EMS Training Program Monitoring Report: This form collects aggregated event information. This instrument asks eight (8) questions of EMS Training grant staff relating to the number of participants they recruited and trained. It allows the grantees and SAMHSA to track the number of EMS personnel recruited, trained and number of certifications accomplished (See Attachment 1).

SAMHSA recognizes the need for emergency services in rural areas and the critical role EMS personnel serve across the country. The information collected is crucial to support SAMHSA in complying with Government Performance and Results Act (GPRA) Center reporting requirements and will inform future development of knowledge dissemination activities.

The chart below summarizes the annualized burden for this project.

Type of respondent | Number of respondents | Responses per respondent | Total responses | Hours per response | Total annual burden hours | Hourly wage cost | Total hour cost
Rural EMS Staff
Rural EMS Training Program Monitoring Report | 27 | 2 | 54 | .17 | 9.18 | $19.92 | $182.87
Total | 27 | 2 | 54 | .17 | 9.18 | 19.92 | 182.87

Summary Table

Instrument | Number respondents | Responses per respondents | Burden hours
Rural EMS Training Program Monitoring Report | 27 | 2 | 9.18
Total | 27 | 2 | 9.18

Send comments to Carlos D. Graham, SAMHSA Reports Clearance Officer, 5600 Fishers Lane, Room 15E57-A, Rockville, Maryland 20857, OR email a copy to Carlos.Graham@samhsa.hhs.gov. Written comments should be received by August 2, 2022.

Carlos Graham,
Reports Clearance Officer.

[FR Doc. 2022-11963 Filed 6-2-22; 8:45 am]

BILLING CODE 4162-20-P